DEPARTMENT OF COMMERCE

International Trade Administration

[A-475-844]

Emulsion Styrene-Butadiene Rubber From Italy: Termination of Less-Than-Fair-Value Investigation

AGENCY: Enforcement and Compliance, International Trade Administration, Department of Commerce.

SUMMARY: Based on a withdrawal of the antidumping duty petition on emulsion styrene-butadiene rubber (ESBR) from Italy by Lion Elastomers LLC (the petitioner), we are terminating this less-than-fair-value (LTFV) investigation.

DATES: Applicable May 11, 2022.

FOR FURTHER INFORMATION CONTACT: Zachary Le Vene, AD/CVD Operations, Office VII, Enforcement and Compliance, International Trade Administration, U.S. Department of Commerce, 1401 Constitution Avenue NW, Washington, DC 20230; telephone: (202) 482-0056.

SUPPLEMENTARY INFORMATION:

Background

On November 12, 2021, Commerce received a petition concerning imports of ESBR from Italy, filed in proper form by the petitioner.¹ Commerce published the notice of initiation of this investigation on December 10, 2021.² On April 29, 2022, Commerce published its preliminary determination in the LTFV investigation of ESBR from Italy.³ On May 2, 2022, the petitioner submitted a letter withdrawing the Petition with respect to Italy.⁴

¹ See Petitioner's Letter, “Petition (Vol. I-IV) for the Imposition of Antidumping Duties on Imports of Emulsion Styrene-Butadiene Rubber from Czech Republic, Italy, and Russia,” dated November 12, 2021 (Petition).

² See Emulsion Styrene-Butadiene Rubber from the Czech Republic, Italy, and the Russian Federation: Initiation of Less-Than-Fair-Value Investigations, 86 FR 70447 (December 10, 2021).

³ See Emulsion Styrene-Butadiene Rubber from Italy: Preliminary Affirmative Determination of Sales at Less Than Fair Value, 87 FR 25447 (April 29, 2022) (Preliminary Determination), and accompanying Preliminary Decision Memorandum.

⁴ See Petitioner's Letter, “Emulsion Styrene-Butadiene Rubber from Italy: Petitioner's Withdrawal of Antidumping Duty Petition Alleging Sales of ESBR from Italy at LTFV (Vol. III),” dated May 2, 2022.

Section 351.207(b)(1) of Commerce's regulations stipulates that the Secretary may terminate an investigation, provided it has concluded that termination of the investigation is in the public interest. Because the petitioner has withdrawn its Petition with respect to Italy, Commerce has concluded that termination is in the public interest, pursuant to 19 CFR 351.207(b)(1). Accordingly, pursuant to section 734(a)(1)(A) of the Tariff Act of 1930, as amended (the Act), 19 CFR 351.207(b)(1), and based on the petitioner's letter withdrawing the Petition, we are terminating this LTFV investigation.

Termination of the Investigation

In accordance with section 734(a)(1)(A) of the Act and 19 CFR 351.207(b)(1), upon the petitioner's withdrawal of the Petition, we are terminating the LTFV investigation of ESBR from Italy.

Suspension of Liquidation

In the Preliminary Determination, Commerce determined weighted-average dumping margins for exporters of ESBR from Italy that were above de minimis. Because Commerce is terminating this LTFV investigation, we will instruct U.S. Customs and Border Protection to terminate suspension of liquidation and refund any cash deposits of estimated antidumping duties for entries of ESBR form Italy.

Dated: May 5, 2022.
Lisa W. Wang,
Assistant Secretary for Enforcement and Compliance.

[FR Doc. 2022-10121 Filed 5-10-22; 8:45 am]

BILLING CODE 3510-DS-P